DEPARTMENT OF AGRICULTURE

Submission for OMB Review; Comment Request

January 26, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, D.C. 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Research Service

Title: National Program 216 Technology Transfer Project—End Users' Inputs.

OMB Control Number: 0518-NEW.

Summary of Collection: The Agricultural Research Service's (ARS) Agricultural System Competitiveness and Sustainability National Program (NP 216) focuses on understanding farms function and how changing or introducing new technology will affect their productivity, profitability, energy efficiency, and natural resource stewardship. The first step of developing more effective methods for delivering new technology to farmers is to assess the effectiveness of the current technology transfer methods and gather information as to how the farmers would prefer to learn about new technology. ARS will conduct a farmer survey to collect information needed to streamline the diffusion of new farming systems technology developed by ARS scientists. The authority to collect this information is contained in CFR, title 7, volume 1, part 2, subpart K, Sec. 2.65(92).

Need and Use of the Information: ARS will collect information to identify challenges and barriers to technology transfer and help in developing alternatives to improve technology transfer from ARS to end-users. The information will also be used as part of a project to identify the effective educational methods and communication channels in transferring new technologies developed under the Agricultural System Competitiveness and Sustainability National Program (NP-216) of the ARS to customers and producers and document the societal impacts of those new technologies.

Description of Respondents: Farms.

Number of Respondents: 5,113.

Frequency of Responses: Reporting: Other (one time).

Total Burden Hours: 315.

Ruth Brown,
Departmental Information Collection Clearance Officer.

[FR Doc. 2011-2060 Filed 1-28-11; 8:45 am]

BILLING CODE 3410-03-P